DEPARTMENT OF ENERGY

Federal Energy Regulatory Commission

[Project No. 14327-000]

Pershing County Water Conservation District; Notice of Application Tendered for Filing with the Commission and Soliciting Additional Study Requests

Take notice that the following hydroelectric application has been filed with the Commission and is available for public inspection.

a. Type of Application: Minor Original License.

b. Project No.: 14327-000.

c. Date filed: June 26, 2013.

d. Applicant: Pershing County Water Conservation District.

e. Name of Project: Humboldt River Hydro Power Project.

f. Location: At the existing U.S. Bureau of Reclamation's (Reclamation) Rye Patch dam on the Humboldt River, nearby the Town of Lovelock, Pershing County, Nevada. The project would occupy 0.25 acre of Reclamation lands.

g. Filed Pursuant to: Federal Power Act, 16 U.S.C. 791 (a)—825(r).

h. Applicant Contact: Mr. Greg Lyman, P.E., Farr West Engineering, 5442 Longley Lane, Suite B, Reno, NV 89511; (775)-853-7259.

i. FERC Contact: Adam Beeco at (202)-502-8655; email—adam.beeco@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 26, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

m. The application is not ready for environmental analysis at this time.

n. The proposed project would utilize the existing Reclamation's Rye Patch dam, gates, and penstocks. The hydropower development would include: (1) 16-foot by 16-foot powerhouse; (2) a single Kaplan turbine-generator at the end of one of the existing 48-inch-diameter steel penstocks with an installed capacity of 750 kilowatts; (3) a new 13.4-kilovolt transmission line; and (4) appurtenant facilities. The average annual generation is estimated to be 2.9 gigawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Nevada State Historic Preservation Officer (SHPO), as required by section 106 of the National Historic Preservation Act and the regulations of the Advisory Council on Historic Preservation, 36 CFR 800.4.

q. Procedural schedule and final amendments: The application will be processed according to the following Hydro Licensing Schedule. Revisions to the schedule will be made as appropriate.

Issue Acceptance or Deficiency Letter | September 2013.
Request Additional Information | September 2013.
Issue Acceptance Letter | December 2013.
Issue Scoping Document 1 for Comments | January 2014.
Request Additional Information (if necessary) | March 2014.
Issue Scoping Document 2 (if necessary) | April 2014.
Notice that application is ready for environmental analysis | April 2014.
Notice of the availability of the EA | October 2014.

Final amendments to the application must be filed with the Commission no later than 30 days from the issuance date of the notice of ready for environmental analysis.

Dated: July 2, 2013.
Kimberly D. Bose,
Secretary.

[FR Doc. 2013-16496 Filed 7-9-13; 8:45 am]

BILLING CODE 6717-01-P